DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341, et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period: 8/21/2007-9/11/2007.

Firm | Address | Date accepted for filing | Products
Viking Plastics | 1 Viking Street, Cory, PA 16407 | 8/22/2007 | Molded and assembled products for use in the HVAC and automotive Industries.
Keystone Powdered Metal Company | 251 State Street, St. Marys, PA 15857 | 8/30/2007 | Powdered metal products.
NRL & Associates, Inc | 112 Log Canoe Circle, Stevensville, MD 21666 | 8/28/2007 | Parts engineered from all types of metals & plastics, used in microwave, medical device, amusements & commercial markets.
Bicron Electronics Company | 5 Barlow Street, Canaan, CT 06018 | 9/5/2007 | Solenoid, transformers, and electronic assemblies.
Acme Machine Works, Inc | 20001 E. Paisano Drive, El Paso, TX 79905 | 9/5/2007 | Bolts and mechanical fasteners.
L&M Precision Fabrication, Inc | 13026 W. McFarlane #I-4, Airway, WA 99001 | 8/27/2007 | Cabinets, panels and bases for electronic and electrical control apparatus.
Cheetah Chassis Corporation | 225 Lincoln Highway, Fairless Hills, PA 19030 | 9/11/2007 | Container chassis which include intermodal container chassis, custom chassis and specialized flatbed trailers.
Dickten Masch Plastics, LLC | N44 W3341 Waterown Plank Road, Nashtoah, WI 53058 | 9/11/2007 | Thermoplastic and thermoset products.
Estee Mold & Die, Inc | 1467 Stanley Ave., Dayton, OH 45404 | 9/11/2007 | Molds for plastic, rubber and composite parts.
Presair, LLC | 1009 West Boston Road, Mamaroneck, NY 10543 | 9/5/2007 | Pressure and vacuum switches.
Conley Corporation | 2795 E 91st St., Tulsa, OK 74137 | 8/27/2007 | Non-corrosive plastic pipe.
Kirkwood Metal Services, LLC | 3153 N. Lewis Avenue, Tulsa, OK 74110 | 8/27/2007 | Heavy steel tanks.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: September 11, 2007.
William P. Kittredge,
Program Officer for TAA.

[FR Doc. E7-18330 Filed 9-17-07; 8:45 am]

BILLING CODE 3510-24-P